DEPARTMENT OF TRANSPORTATION

Federal Aviation Administration

Notice of Intent To Rule on Request To Release Airport Property at Ralph Wenz Field, Pinedale, Wyoming

AGENCY: Federal Aviation Administration (FAA), DOT.

ACTION: Notice of request to release airport property.

SUMMARY: The FAA proposes to rule and invite public comment on the release of land at Ralph Wenz Field under the provisions of Section 125 of the Wendell H. Ford Aviation Investment Reform Act for the 21st Century (AIR 21), now 49 U.S.C. 47107(h)(2).

DATES: Comments must be received on or before July 6, 2016.

ADDRESSES: Comments on this application may be mailed or delivered to the FAA at the following address: Mr. John P. Bauer, Manager, Federal Aviation Administration, Northwest Mountain Region, Airports Division, Denver Airports District Office, 26805 E. 68th Avenue, Suite 224, Denver, Colorado 80249-6361.

In addition, one copy of any comments submitted to the FAA must be mailed or delivered to Mr. James C. Parker, Jr., Airport Manager, Ralph Wenz Field, Pinedale, Wyoming, at the following address: Mr. James C. Parker, Jr., Airport Manager, Ralph Wenz Field, P.O. Box 1766, Pinedale, Wyoming 82941.

FOR FURTHER INFORMATION CONTACT: Mr. Jesse Lyman, Wyoming State Engineer, Federal Aviation Administration, Northwest Mountain Region, Denver Airports District Office, 26805 E. 68th Avenue, Suite 224, Denver, Colorado 80249-6361.

The request to release property may be reviewed, by appointment, in person at this same location.

SUPPLEMENTARY INFORMATION: The FAA invites public comment on the request to release property at Ralph Wenz Field under the provisions of the AIR 21 (49 U.S.C. 47107(h)(2)).

On May 23, 2016, the FAA determined that the request to release property at Ralph Wenz Field submitted by The Town of Pinedale meets the procedural requirements of the FAA. The FAA may approve the request, in whole or in part, no later than July 6, 2016.

The following is a brief overview of the request:

The Town of Pinedale, Wyoming, is proposing the release from the terms, conditions, reservations, and restrictions on a 0.76 acre parcel of property acquired by the Town of Pinedale on November 9, 2004, with the assistance of Airport Improvement Program (AIP) Grant No. 3-56-0021-11. This parcel is outside of the Runway Protection Zone and is considered a non-economic remnant. The parcel in question has been part of a long-standing lawsuit regarding a property line dispute with the adjacent landowners. A settlement has been reviewed and approved by the district court to deed this parcel of land back to the adjacent landowners. As the property was purchased with AIP funds, the fair market value of the property will be reinvested in future AIP eligible projects and will be used to offset future AIP grants.

Any person may inspect, by appointment, the request in person at the FAA office listed above under FOR FURTHER INFORMATION CONTACT.

In addition, any person may, upon appointment and request, inspect the application, notice and other documents germane to the application in person at Ralph Wenz Field.

Issued in Denver, Colorado, on May 23, 2016.
John P. Bauer,
Manager, Denver Airports District Office.

[FR Doc. 2016-13179 Filed 6-3-16; 8:45 am]

BILLING CODE 4910-13-P